DEPARTMENT OF COMMERCE

National Oceanic and Atmospheric Administration

RIN 0648-XC942

South Atlantic Fishery Management Council; Public Hearings

AGENCY: National Marine Fisheries Service (NMFS), National Oceanic and Atmospheric Administration (NOAA), Commerce.

ACTION: Notice of a public hearing via webinar.

SUMMARY: The South Atlantic Fishery Management Council (Council) will hold a public hearing pertaining to Amendment 7 to the Dolphin Wahoo Fishery Management Plan (FMP).

DATES: The public hearing will be held via webinar on November 18, 2013 beginning at 6 p.m. Information on how to register for the webinar will be posted to the Council's Web site at www.safmc.net.

Written comments: Written comments for Dolphin Wahoo Amendment 7 will be accepted November 1-20, 2013. Email comments to: DWAmend7Comments@safmc.net. Comments may also be submitted in writing to: Bob Mahood, South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The Council will hold a public hearing via webinar on Amendment 7 to the Dolphin Wahoo FMP. The amendment addresses an action to allow recreational fishermen to bring dolphin (mahi mahi) and wahoo caught in the Bahamas into the U.S. Exclusive Economic Zone (EEZ) as fillets.

Council staff will present an overview of the amendment and be available for questions at the beginning of the hearing. Members of the public will have the opportunity to go on record after the presentation to formally record their comments for consideration by the Council. A summary document for the amendment will be posted to the Council's Web site at www.safmc.net.

Special Accommodations

The hearing is physically accessible to people with disabilities. Requests for auxiliary aids should be directed to the Council office (see ADDRESSES) 5 days prior to the meeting.

Authority: 16 U.S.C. 1801 et seq.

Dated: October 29, 2013.
Tracey L. Thompson,
Acting Deputy Director, Office of Sustainable Fisheries, National Marine Fisheries Service.

[FR Doc. 2013-26067 Filed 10-31-13; 8:45 am]

BILLING CODE 3510-22-P